DEPARTMENT OF COMMERCE

International Trade Administration

Manufacturing Council Meeting

AGENCY: International Trade Administration, U.S. Department of Commerce.

ACTION: Notice of an open meeting.

SUMMARY: The Manufacturing Council will hold a meeting to hear updates from the Department of Commerce in addition to the Council's ex-officio members, the Secretaries of Energy, Labor, and the Treasury (or their designees) on the Government response to past Council recommendations regarding competitiveness, workforce development issues, energy policy, trade agreements and other issues affecting the U.S. manufacturing sector and to determine the Council's work plan for 2012.

DATES: January 20, 2012.

TIME: 9:30 a.m.-11:30 a.m. EST.

ADDRESSES: The U.S. Department of Commerce, 1401 Constitution Avenue NW., Room 4830, Washington DC 20230. All guests are requested to register in advance. This meeting will be physically accessible to people with disabilities. Seating is limited and will be on a first come, first served basis. Requests for sign language interpretation, other auxiliary aids, or pre-registration, should be submitted no later than January 13, 2012 to Jennifer Pilat, the Manufacturing Council, Room 4043, 1401 Constitution Avenue NW., Washington, DC, 20230, telephone (202) 482-4501, OACIE@trade.gov. Last minute requests will be accepted, but may be impossible to fill.

FOR FURTHER INFORMATION CONTACT: Jennifer Pilat, the Manufacturing Council, Room 4043, 1401 Constitution Avenue NW., Washington, DC, 20230, telephone: (202) 482-4501, email: OACIE@trade.gov

SUPPLEMENTARY INFORMATION: The Council was re-chartered on April 8, 2010, to advise the Secretary of Commerce on matters relating to the U.S. manufacturing industry. No time will be available for oral comments from members of the public attending the meeting. Any member of the public may submit pertinent written comments concerning the Council's affairs at any time before or after the meeting. Comments may be submitted to Jennifer Pilat at the contact information indicated above. To be considered during the meeting, comments must be received no later than 5 p.m. Eastern Time on January 13, 2012, to ensure transmission to the Council prior to the meeting. Comments received after that date will be distributed to the members but may not be considered at the meeting.

Copies of Council meeting minutes will be available within 90 days of the meeting.

Dated: December 19, 2011.
Jennifer Pilat,
Executive Secretary, The Manufacturing Council.

[FR Doc. 2011-32826 Filed 12-21-11; 8:45 am]

BILLING CODE 3510-DR-P